DEPARTMENT OF AGRICULTURE

Animal and Plant Health Inspection Service

[Docket No. 03-078-1]

Notice of Request for Extension of Approval of an Information Collection

Correction

In notice document 03-25253 beginning on page 57653 in the issue of Monday, October 6, 2003, the subject heading is corrected to read as set forth above.

[FR Doc. C3-25253 Filed 10-10-03; 8:45 am]

BILLING CODE 1505-01-D

SECURITIES AND EXCHANGE COMMISSION

[Release No. 34-48533; File No. SR-PCX-2003-44]

Self-Regulatory Organizations; Notice of Filing and Immediate Effectiveness of Proposed Rule Change by the Pacific Exchange, Inc. Relating to the Posting Period for Membership Applications

September 24, 2003.

Correction

In notice document 03-24753 beginning on page 56367 in the issue of September 30, 2003, in the third column, the docket number is corrected to read as set forth above.

[FR Doc. C3-24753 Filed 10-10-03; 8:45 am]

BILLING CODE 1505-01-D

DEPARTMENT OF TRANSPORTATION

Federal Aviation Administration

14 CFR Part 71

[Docket No. FAA-2003-14905; Airspace Docket No. 03-AGL-04]

Modification of Class E Airspace; Cheboygan, MI

Correction

In rule document 03-24607 appearing on page 55817 in the issue of Monday, September 29, 2003, make the following correction:

§ 71.1 [Corrected]

On page 55817, in the second column, in § 71.1, in the fifth line from the bottom, “84°31′109″” should read, “84°31′09″”.

[FR Doc. C3-24607 Filed 10-10-03; 8:45 am]

BILLING CODE 1505-01-D

DEPARTMENT OF TRANSPORTATION

Federal Aviation Administration

[Policy Statement No. ANM-03-115-31]

Conducting Component Level Tests to Demonstrate Compliance

Correction

In notice document 03-23301 beginning on page 54042 in the issue of Monday, September 15, 2003, in the third column, the docket number is corrected to read as set forth above.

[FR Doc. C3-23301 Filed 10-10-03; 8:45 am]

BILLING CODE 1505-01-D